DEPARTMENT OF ENERGY

Office of Science

Office of Science Financial Assistance Program Notice 00-15: Theoretical Research in Plasma and Fusion Science

AGENCY: Department of Energy (DOE).

ACTION: Notice inviting new and renewal grant applications.

SUMMARY: The Office of Fusion Energy Sciences (OFES) of the Office of Science (SC), U.S. Department of Energy (DOE) announces its interest in receiving grant applications for theoretical research in magnetic fusion energy sciences. All individuals or groups planning to submit applications for new or renewal funding in FY 2001 should submit in response to this Notice.

The specific areas of interest are: Magnetohydrodynamics and Stability; Confinement and Transport; Edge and Divertor Physics; Plasma Heating and Non-inductive Current Drive; Innovative Confinement Concepts; and Atomic and Molecular Processes in Plasmas.

More specific information on each area of interest is outlined in the general and program specific supplementary information sections below. Due to the limited availability of funds, Principal Investigators with continuing grants may not submit a new application in the same area(s) of interest as their current grant(s). A Principal Investigator may submit only one application under each area of interest as listed above.

DATES: To permit timely consideration for awards in Fiscal Year 2001, applications submitted in response to this notice must be received no later than 4:30 p.m., July 20, 2000. Electronic submissions of formal applications will not be accepted.

Applicants are requested to submit a letter-of-intent by June 15, 2000, which includes the title of the application, the name of the Principal Investigator(s), the requested funding and a one-page abstract. These letters-of-intent will be used to organize and expedite review processes. Failure to submit a letter-of-intent will not negatively prejudice a responsive formal application submitted in a timely fashion. Electronic submissions of letters-of-intent are acceptable.

ADDRESSES: Formal applications referencing Program Notice 00-15, should be sent to: U.S. Department of Energy, Office of Science, Grants and Contracts Division, SC-64, 19901 Germantown Road, Germantown, Maryland 20874-1290, ATTN: Program Notice 00-15. The above address must also be used when submitting applications by U.S. Postal Service Express or any other commercial overnight delivery service, or when hand-carried by the applicant.

Letters-of-intent referencing Program Notice 00-15, should be forwarded to: U.S. Department of Energy, Office of Science, Office of Fusion Energy Sciences, SC-50, 19901 Germantown Road, Germantown, Maryland 20874-1290, ATTN: John Sauter. Letters-of-intent can also be submitted via E-mail at the following E-mail address: john.sauter@science.doe.gov

FOR FURTHER INFORMATION CONTACT: Office of Fusion Energy Sciences, U.S. Department of Energy, 19901 Germantown Road, Germantown, MD 20874-1290. Specific contacts for each area of interest, along with telephone numbers and Internet addresses, are listed below:

Magnetohydrodynamics and Stability: Rostom Dagazian, Research Division, SC-55, Telephone: (301) 903-4926, or by Internet address, Rostom.dagazian@science.doe.gov.

Confinement and Transport: Curt Bolton, Research Division, SC-55, Telephone: (301) 903-4914, or by Internet address, curt.bolton@science.doe.gov.

Edge and Divertor Physics: Walter Sadowski, Research Division, SC-55, Telephone: (301) 903-4678, or by Internet address, walt.sadowski@science.doe.gov.

Plasma Heating and Non-inductive Current Drive: Walter Sadowski, Research Division, SC-55, Telephone: (301) 903-4678, or by Internet address, walt.sadowski@science.doe.gov.

Innovative Confinement Concepts: Steve Eckstrand, Research Division, SC-55, Telephone: (301) 903-5546, or by Internet address, steve.eckstrand@science.doe.gov.

Atomic and Molecular Processes in Plasmas: Mike Crisp, Research Division, SC-55, Telephone: (301) 903-4883, or by Internet address, michael.crisp@science.doe.gov.

SUPPLEMENTARY INFORMATION: General information about development and submission of applications, eligibility, limitations, evaluations and selection processes, and other policies and procedures may be found in the Application Guide for the Office of Science (SC) Financial Assistance Program and 10 CFR Part 605. Electronic access to SC's Financial Assistance Guide and required forms is possible via the Internet using the following Web site address: http://www.sc.doe.gov/production/grants/grants.html. DOE is under no obligation to pay for any costs associated with the preparation or submission of an application if an award is not made.

Program Funding

It is anticipated that $7,600,000 of Fiscal Year 2001 funding will be available to start new work or renewals of existing work from applications received in response to this Notice. The number of awards and range of funding will depend on the number of applications received and selected for award. Since future year funding is not anticipated to increase, applications should propose constant year effort (allowing for inflation). Future year funding will depend upon suitable progress and the availability of funds. The cost-effectiveness of the application will be considered when comparing applications with differing funding requirements. Applications requiring annual funding as low as $50,000 are welcomed and encouraged.

Collaborative research projects involving more than one institution, as well as work in support of the computational collaborative research efforts are encouraged. Applications submitted from different institutions, which are directed at a common research activity, should clearly indicate they are part of a proposed collaboration and contain a brief description of the overall research project. However, each application must have a distinct scope of work and a qualified principal investigator, who is responsible for the research effort being performed at his or her institution. Synergistic collaborations with researchers in federal laboratories and Federally Funded Research and Development Centers (FFRDCs), including the DOE National Laboratories are also encouraged, though no funds will be provided to these organizations under this Notice. Further information on preparation of collaborative applications may be accessed via the Internet at http://www.sc.doe.gov/production/grants/Colab.html.

To enable all reviewers in each category to read all applications in that category, the application must be limited to a maximum of twenty (20) pages (including text and figures) for applications from 1-2 persons and thirty (30) pages for applications from theory groups. In addition, please limit biographical and publication information for the principal investigator and senior personnel to no more than one page each. Although it is not required, it would be helpful for each applicant to submit twelve (12) copies of their application due to the anticipated number of reviewers; otherwise the standard number of copies must be received with each application as outlined in the Application Guide.

In addition to the information required by 10 CFR Part 605 each application should contain the following items: (1) A succinct statement of the goal of the research, (2) a detailed research plan, (3) the specific results expected at the end of the project period, (4) an analysis of the adequacy of the budget, and (5) a discussion of the impact of the proposed research on other fields of science.

Merit Review

Applications will be subjected to formal merit review and will be evaluated against the following criteria, which are listed in descending order of importance as set forth in 10 CFR Part 605 (www.sc.doe.gov/production/grants/605index.html):

1. Scientific and/or technical merit of the project,

2. Appropriateness of the proposed method or approach,

3. Competency of the applicant's personnel and adequacy of the proposed resources,

4. Reasonableness and appropriateness of the proposed budget.

The Office of Fusion Energy Sciences shall consider, as part of the evaluation, other available advice or information as well as program policy factors such as ensuring an appropriate balance among the program areas, ensuring support for computational teams, ensuring support for experiments, and quality of previous performance. Selection of applications/proposals for award will be based upon the findings of the technical evaluations, the importance and relevance of the proposed research to the Office of Fusion Energy Sciences' mission, and funding availability.

Program Specific Supplementary Information

Magnetohydrodynamics and Stability

Grant applications are solicited for new research or continuation of past efforts in MHD theory in support of Fusion community work in magnetically confined plasmas. Current work includes advanced tokamak (AT), innovative confinement concepts (ICC), burning plasma physics and steady state high beta plasma issues. Both analytical and computational approaches will be considered. Additional work is particularly needed in the areas of nonlinear MHD, neoclassical tearing modes, extended MHD, including flows and various non-ideal MHD effects, and resistive wall modes. Work in support of the major computational initiative that involves the development of large-scale codes to explore non-linear MHD will also be considered.

Confinement and Transport

Applications will be considered in the area of confinement and transport in plasmas. Both analytical and computational work is of interest. The general area covers plasma turbulence, energy, particle, momentum and radiation transport in the core of the plasma. The work of interest includes work in support of tokamak as well as non-tokamak innovative concepts. Topics of interest include among others, electromagnetic effects on turbulence, shear flow generation and its impacts on transport, and understanding of the role of collisions in turbulent plasmas. Work in support of the major computational initiative that involves the development of large-scale codes to explore turbulence will also be considered.

Edge and Divertor Physics

Applications will be considered in the area of edge physics theory. Both analytical and numerical models are of interest. The general area covers plasma turbulence, energy, particle and radiation transport in the edge of the plasma and in the neighborhood of the separatrix. The work of interest includes neutrals transport in divertors and plasma edge region, atomic physics processes affecting temperature, radiation and flame front propagation in divertors. Techniques and algorithms for modeling fast particles in the edge region as well as adaptive grid methods and their application to modeling of plasma turbulence and transport in the edge region will be reviewed.

Plasma Heating and Non-Inductive Current Drive

Applications will be considered in the area of RF physics in plasmas. This includes RF propagation, heating and current drive. Of interest are both analytical and numerical treatments of interaction of plasmas with radio frequency waves. These include electron cyclotron, ion cyclotron, lower hybrid and Bernstein waves. Topics of interest include, among others, physical processes involved in conversion layers, power deposition for temperature profile control and interaction of waves of different frequencies to produce specific effects on the plasma. Applications for modeling radio frequency launchers and their coupling to the edge plasma will also be considered.

Innovative Confinement Concepts

Grant applications are desired for theoretical and computational research on innovative confinement concepts that have the possibility of leading to improved magnetic fusion systems. In 1996, the U.S. fusion program began supporting a broadening array of innovative confinement concepts (ICC). Increased theoretical and computational research is needed to make optimal use of these experiments as they come into operation and to support further development of these concepts. Additional work is needed particularly on macroscopic stability and turbulence/transport in innovative confinement concepts.

Atomic and Molecular Processes in Plasmas

Grant applications will be considered for theoretical research relevant to the description of atomic processes in plasmas. In addition to overall scientific merit, emphasis will be given to work that promises to aid the understanding of the basic atomic processes that are important for modeling of magnetically confined plasmas and high-density plasmas found in inertial confinement fusion experiments. The program has found that understanding electron-atom and electron-ion collisions and the radiation emitted by atoms and ions to be of importance for the modeling of plasma behavior in experiments. Some current areas where atomic processes are considered to be important include the effects of transport, the effects of impurities and the understanding of diagnostics.

The Catalog of Federal Domestic Assistance Number for this program is 81.049, and the solicitation control number is ERFAP 10 CFR Part 605.
Issued in Washington, DC on May 11, 2000.
John Rodney Clark,
Associate Director of Science for Resource Management.

[FR Doc. 00-13408 Filed 5-26-00; 8:45 am]

BILLING CODE 6450-01-U